DEPARTMENT OF HOMELAND SECURITY

Federal Emergency Management Agency

[Docket ID: FEMA-2018-0006; OMB No. 1660-0103]

Agency Information Collection Activities: Proposed Collection; Comment Request; Property Acquisition and Relocation for Open Space

AGENCY: Federal Emergency Management Agency, DHS.

ACTION: Notice and request for comments.

SUMMARY: The Federal Emergency Management Agency, as part of its continuing effort to reduce paperwork and respondent burden, invites the general public and other Federal agencies to take this opportunity to comment on a reinstatement, with change, of a previously approved information collection for which approval has expired. In accordance with the Paperwork Reduction Act of 1995, this notice seeks comments concerning the property acquisition and relocation for open space process as part of the administration of FEMA's mitigation grant programs, post-award monitoring requirements and a direct grant to property owners for acquisition and demolition of severe repetitive loss structures.

DATES: Comments must be submitted on or before April 30, 2018.

ADDRESSES: To avoid duplicate submissions to the docket, please use only one of the following means to submit comments:

(1) Online. Submit comments at www.regulations.gov under Docket ID FEMA-2018-0006. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Jennie Orenstein, Grants Policy Branch Chief, FIMA, FEMA, (202) 212-4071. You may contact the Records Management Division for copies of the proposed collection of information at email address: FEMA-Information-Collections-Management@fema.dhs.gov.

SUPPLEMENTARY INFORMATION: Regulations implementing property acquisition and relocation for open space are codified at 44 CFR part 80. These regulations govern property acquisitions for the creation of open space under FEMA's three hazard mitigation assistance (HMA) grant programs: the Pre-Disaster Mitigation program (PDM) and Hazard Mitigation Grant Program (HMGP), which are authorized under the Robert T. Stafford Disaster Relief and Emergency Assistance Act, as amended, 42 U.S.C. 5121-5207; and the Flood Mitigation Assistance Program (FMA) authorized under the National Flood Insurance Act (NFIA) of 1968, as amended, 42 U.S.C. 4001 et seq. Acquisition and relocation of property for open space use is one of the most common mitigation activities and is an eligible activity type authorized for Federal grant funds under PDM, HMGP, and FMA. These programs require all properties acquired with FEMA funds to be deed restricted and maintained as open space in perpetuity. This ensures that no future risks from hazards occur to life or structures on that property, and no future disaster assistance or insurance payments are made as a result of damages to that property.

This reinstatement, with change, of a previously approved information collection for which approval has expired is necessary to establish uniform requirements for State, Tribal and local implementation of acquisition activities, and to enforce open space maintenance and post-award monitoring requirements for properties acquired with FEMA mitigation grant funds. The original collection had one form. This collection includes seven additional forms to identify an applicant's identity and address close-out and post-award monitoring requirements and allow grants to be made directly to property owners. This collection consists of a total of eight forms.

First, the reinstatement updates the existing form in the collection, 086-0-31, Statement of Voluntary Participation for Acquisition of Property for Purpose of Open Space, to use appropriate terminology references found in 2 CFR part 200 Uniform Administrative Requirements, Cost Principles and Audit Requirements for Federal Awards.

Second, the collection adds Declaration and Release (Declaración Y Autorización), 009-0-3 (English) and 009-0-4 (Spanish) (O.M.B. No. 1660-0002) to determine eligibility and verify an applicant's identity and to prevent a duplication of benefits. Third, Subrecipients are required to submit a completed copy of the Real Property Status Report, SF-429 (O.M.B. No. 4040-0016), with closeout documentation for all real property purchased with grant funds. Fourth, the collection adds forms to address post-award monitoring requirements. When the State, Tribe or local community, i.e., the recipient or subrecipient, acquires the property from the property owner, they must regularly monitor and report to FEMA that the property is in compliance with the open space deed restrictions and grant terms. Every three years the subrecipient, through the recipient, must submit to FEMA a report certifying that the subrecipient has inspected the property within the month preceding the report and that the property continues to be maintained consistent with open space requirements. FEMA is updating the collection to include three two post-award monitoring forms (086-0-35a (Pages 10-11)), NFIP Repetitive Loss Update Worksheet (O.M.B No. 1660-0022), and SF-429, Real Property Status Report (O.M.B. No. 4040-0016).

Finally, this update allows FEMA to obtain information directly from property owners to enable FEMA to determine a property owner's eligibility for, and interest in, receiving a direct grant. Following the award, the information enables FEMA to monitor and enforce the grant terms to ensure the property is maintained consistent with the appropriate land use or open space deed restrictions. The NFIA, 42 U.S.C. 4104c, authorizes the Director of FEMA to carry out a mitigation assistance program (FMA) that provides financial assistance in the form of grants to States, Tribes, and communities, and in the form of direct grants to property owners, using amounts made available from the National Flood Insurance Fund for planning and carrying out mitigation activities designed to reduce flood damages to structures with flood insurance under 42 U.S.C. 4001 et seq. In addition to the FMA grants FEMA makes available to states and local governments, FEMA is exercising its statutory authority under 42 U.S.C. 4104c to provide direct grants to property owners for acquisition and demolition of severe repetitive loss structures to reduce future flood damages and flood insurance payments. These direct grants to property owners, entitled Severe Risk Property Acquisition (SRPA) grants, enable property owners to carry out mitigation activities, i.e., acquisition, that reduce flood damage to individual structures for which two or more claim payments for losses have been made under National Flood Insurance Program (NFIP) coverage that equal or exceed the value of the insured structure.

With a SRPA grant, property owners have the option to retain their property after demolition or to voluntarily sell their property to a local government or qualifying organization. If the property owner retains the land after demolition, the property must be deed restricted and maintained consistent with sound land management practices. This ensures a reduction in flood damages on that property, limits future disaster assistance provided, and ideally, eliminates or decreases the insurance payments made as a result of damages to that property. If the property owner chooses to sell the property, the local government or qualifying organization must deed restrict the land in perpetuity for compatible uses of open space. To implement SRPA grants, FEMA needs to collect information associated with SRPA grants from property owners to process applications and ensure compliance with the terms and conditions of the grants and applicable law and regulations. FEMA is revising the collection to add three new forms for that purpose (086-0-31a, Intent to Participate, 086-0-31b, Notice of Voluntary Interest and Property Survey; 086-0-31c, Severe Risk Property Acquisition Mitigation Offer).

Collection of Information

Title: Property Acquisition and Relocation for Open Space.

Type of Information Collection: Reinstatement, with change, of a previously approved information collection for which approval has expired.

OMB Number: 1660-0103.

FEMA Forms: FEMA Form 086-0-31, Statement of Voluntary Participation for Acquisition of Property for Purpose of Open Space; 086-0-31a, Intent to Participate, 086-0-31b, Notice of Voluntary Interest and Property Survey; 086-0-31c, Severe Risk Property Acquisition Mitigation Offer; 009-0-3 (English) and 009-0-4 (Spanish), Declaration and Release, (O.M.B. No. 1660-0002); 086-0-35a (Pages 9-10), NFIP Repetitive Loss Update Worksheet (O.M.B No. 1660-0022); SF-429, Real Property Status Report (O.M.B. No. 4040-0016).

Abstract: FEMA, State, Tribal, local and individual recipients of FEMA mitigation grant programs will use the information collected to meet the property acquisition requirements to implement acquisition activities under the terms of grant agreements for acquisition and relocation activities, ensure compliance with applicable law and regulations, and enforce the open space requirements for all properties acquired with FEMA mitigation grants.

Affected Public: State, local or Tribal Government; Individuals or Households.

Estimated Number of Respondents: 8,334.

Estimated Number of Responses: 10,655.

Estimated Total Annual Burden Hours: 13,020 hours.

Estimated Total Annual Respondent Cost: The estimated annual cost to respondents for the hour burden is $559,768.

Estimated Respondents' Operation and Maintenance Costs: There are no annual costs to respondents' operations and maintenance costs for technical services.

Estimated Respondents' Capital and Start-Up Costs: There is no annual start-up or capital costs.

Estimated Total Annual Cost to the Federal Government: The cost to the Federal Government is $991,514.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 21, 2018.
William H. Holzerland,
Senior Director for Information Management, Office of the Chief Administrative Officer, Mission Support, Federal Emergency Management Agency, Department of Homeland Security.

[FR Doc. 2018-03949 Filed 2-26-18; 8:45 am]

BILLING CODE 9111-47-P